COMMISSION ON CIVIL RIGHTS

Notice of Public Meeting of the U.S. Virgin Islands Advisory Committee; Correction

AGENCY: Commission on Civil Rights.

ACTION: Notice; correction.

SUMMARY: The Commission on Civil Rights published a notice in the Federal Register on Tuesday, December 10, 2024, concerning a meeting of the U.S. Virgin Islands Advisory Committee. For March 26, 2025, the meeting time has been revised to 5 p.m. Atlantic Time from the original time of 11 a.m. Atlantic Time.

FOR FURTHER INFORMATION CONTACT: David Barreras, dbarreras@usccr.gov or 1-202-656-8937.

SUPPLEMENTARY INFORMATION:

Correction: In the Federal Register on Tuesday, December 10, 2024, in FR Document Number 2024-28894, on pages 99221, in the first column, correct the meeting time to: Thursday, March 26, 2025, from 5:00 p.m.-6:30 p.m. Atlantic Time.

Dated: March 11, 2025.
David Mussatt,
Supervisory Chief, Regional Programs Unit.

[FR Doc. 2025-04139 Filed 3-14-25; 8:45 am]

BILLING CODE 6335-01-P